DEPARTMENT OF COMMERCE

International Trade Administration

[A-570-016]

Certain Passenger Vehicle and Light Truck Tires From the People's Republic of China: Final Results of Antidumping Duty Administrative Review and Final Determination of No Shipments; 2021-2022

AGENCY: Enforcement and Compliance, International Trade Administration, Department of Commerce.

SUMMARY: The U.S. Department of Commerce (Commerce) determines that the exporters of passenger vehicle and light truck tires (passenger tires) from the People's Republic of China (China) listed in the “Final Results of Review” section below, sold subject merchandise at less than normal value during the period of review (POR), August 1, 2021, through July 31, 2022. Further, we also determine that certain companies under review had no shipments of subject merchandise to the United States during the POR.

DATES: Applicable March 12, 2024.

FOR FURTHER INFORMATION CONTACT: Caroline Carroll or Terre Keaton Stefanova, AD/CVD Operations, Office IX, Enforcement and Compliance, International Trade Administration, U.S. Department of Commerce, 1401 Constitution Avenue NW, Washington, DC 20230; telephone: (202) 482-4948 or (202) 482-1280, respectively.

SUPPLEMENTARY INFORMATION:

Background

On September 7, 2023, we published the Preliminary Results and invited interested parties to comment.¹ On December 4, 2023, Commerce extended the deadline of the final results of this administrative review to March 5, 2024, in accordance with section 751(a)(3)(A) of the Tariff Act of 1930, as amended (the Act), and 19 CFR 351.213(h)(2).² For details regarding the events that occurred since the Preliminary Results, see the Issues and Decision Memorandum.³

¹ See Certain Passenger Vehicle and Light Truck Tires from the People's Republic of China: Preliminary Results of Antidumping Duty Administrative Review, Partial Rescission, and Preliminary Determination of No Shipments; 2021-2022, 88 FR 61506 (September 7, 2023) (Preliminary Results), and accompanying Preliminary Decision Memorandum (PDM).

² See Memorandum, “Extension of Deadline for Final Results of 2021-2022 Antidumping Duty Administrative Review,” dated December 4, 2023.

³ See Memorandum, “Issues and Decision Memorandum for the Final Results of the Antidumping Duty Administrative Review of Certain Passenger Vehicle and Light Truck Tires from the People's Republic of China and Final Determination of No Shipments; 2021-2022,” dated concurrently with, and hereby adopted by, this notice.

Scope of the Order ⁴

⁴ See Certain Passenger Vehicle and Light Truck Tires from the People's Republic of China: Amended Final Affirmative Antidumping Duty Determination and Antidumping Duty Order; and Amended Final Affirmative Countervailing Duty Determination and Countervailing Duty Order, 80 FR 47902 (August 10, 2015) (Order).

The products covered by this Order are certain passenger vehicle and light truck tires from China. For a complete description of the scope of the Order, see the Preliminary Results.

Analysis of Comments Received

We addressed all the issues raised in the case and rebuttal briefs in the Issues and Decision Memorandum. A list of the issues that parties raised is provided in Appendix I of this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on comments received from interested parties regarding the Preliminary Results, we have made certain changes to the margin calculations for Giti and Sumitomo.⁵ For a discussion of these changes, see the Issues and Decision Memorandum.

⁵ Giti consists of the following companies: Giti Tire Global Trading Pte. Ltd.; Giti Radial Tire (Anhui) Company Ltd.; Giti Tire (Fujian) Company Ltd.; Giti Tire (Hualin) Company, Ltd.; Giti Tire Greatwall Company. Ltd.; Giti Tire (Anhui) Company; Giti Tire (Yinchuan) Company Ltd.; and Giti Tire (Chongqing) Company Ltd. (collectively, Giti). Sumitomo consists of the following companies: Sumitomo Rubber (Hunan) Co., Ltd.; Sumitomo Rubber (Changshu) Co., Ltd. (SRC); and Sumitomo Rubber Industries Ltd. (collectively, Sumitomo).

Final Determination of No Shipments

In the Preliminary Results, we determined that the following companies did not have shipments of subject merchandise during the POR: (1) Crown International Corporation; (2) Prinx Chengshan (Shandong) Tire Company, Ltd.; (3) Qingdao Nama Industrial Co., Ltd.; (4) Shandong Changfeng Tyres Co., Ltd.; (5) Shandong Duratti Rubber Corporation Co., Ltd.; (6) Shandong Transtone Tyre Co., Ltd.; (7) Shandong Yongsheng Rubber Group Co., Ltd.; and (8) Triangle Tyre Co., Ltd. (Triangle Tyre).⁶ We received comments from the petitioner ⁷ and Triangle Tyre regarding the no-shipments claim for Triangle Tyre.⁸ However, we continue to find that each of the above-listed companies had no shipments of subject merchandise during the POR and we will issue appropriate liquidation instructions consistent with our “automatic assessment” clarification for these final results.⁹

⁶ See Preliminary Results, 88 FR at 61507.

⁷ The petitioner is the United Steel, Paper and Forestry, Rubber, Manufacturing, Energy, Allied Industrial and Service Workers International Union, AFL-CIO, CLC.

⁸ See the Issues and Decision Memorandum at Comment 7 for a discussion of the comments received regarding Triangle Tyre's no-shipment claim.

⁹ See Non-Market Economy Antidumping Proceedings: Assessment of Antidumping Duties, 76 FR 65694 (October 24, 2011) (Non-Market Economy Assessment Notice).

Separate Rates

In the Preliminary Results, we found that Zhongce Rubber Group Co., Ltd. (Zhongce) did not establish its eligibility for a separate rate.¹⁰ Moreover, we determined that 14 other companies under review did not establish their eligibility for a separate rate because they failed to provide either a separate rate application, a separate rate certification, or a no-shipment certification (if they were already eligible for a separate rate). As such, we preliminarily determined that Zhongce and these 14 other companies are part of the China-wide entity. No party filed comments on these determinations in the Preliminary Results. Therefore, for the final results, we continue to find that these 15 companies are part of the China-wide entity. See Appendix III for a complete list of these 15 companies.

¹⁰ See Preliminary Results PDM at 11.

In the Preliminary Results, we determined that Giti, Sumitomo, and 12 other companies demonstrated their eligibility for separate rates.¹¹ No party filed comments on these determinations in the Preliminary Results. Therefore, we made no changes to our preliminary separate rate findings and we continue to find that Giti, Sumitomo, and the 12 companies listed in Appendix II have demonstrated their eligibility for a separate rate in this review.

¹¹ Id. at 10.

Rate for Non-Selected Separate Rate Respondents

The Act and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review. Section 735(c)(5)(A) of the Act states that the all-others rate should be calculated by averaging the weighted-average dumping margins for individually examined respondents, excluding rates that are zero, de minimis, or based entirely on facts available. When the rates for individually examined companies are all zero, de minimis, or based entirely on facts available, section 735(c)(5)(B) of the Act provides that Commerce may use “any reasonable method” to establish the all-others rate. Accordingly, for these final results, we calculated a simple average of the dumping margin for the separate rate respondents using the calculated rates of the mandatory respondents, Giti and Sumitomo, which are not zero, de minimis, or determined entirely on the basis of facts available. See Appendix II for the list of these companies.

Final Results of Review

We are assigning the following dumping margins to the firms listed below for the period August 1, 2021, through July 31, 2022:

Exporter | Weighted-average dumping margin (percent)
Giti Tire Global Trading Pte. Ltd.; Giti Radial Tire (Anhui) Company Ltd.; Giti Tire (Fujian) Company Ltd.; Giti Tire (Hualin) Company Ltd.; Giti Tire Greatwall Company, Ltd.; Giti Tire (Anhui) Company, ltd.; Giti Tire (Yinchuan) Company, Ltd.; and Giti Tire (Chongqing) Company, Ltd | 53.41
Sumitomo Rubber Industries Ltd.; Sumitomo Rubber (Hunan) Co., Ltd.; and Sumitomo Rubber (Changshu) Co., Ltd | 2.47
Separate Rate Companies ¹² | 27.94

Disclosure

¹² See Appendix II for the list of these companies.

Commerce intends to disclose the calculations performed in connection with these final results to interested parties within five days of the date of publication of this notice in the Federal Register, in accordance with 19 CFR 351.224(b).

Assessment Rates

Pursuant to section 751(a)(2)(C) of the Act, and 19 CFR 351.212(b), Commerce will determine, and U.S. Customs and Border Protection (CBP) shall assess, antidumping duties on all appropriate entries of subject merchandise in accordance with the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For Giti and Sumitomo, we calculated importer-specific assessment rates on the basis of the ratio of the total amount of antidumping duties calculated for each importer's examined sales and the total entered value of the sales, in accordance with 19 CFR 351.212(b)(1). Where either a respondent's weighted-average dumping margin is zero or de minimis, within the meaning of 19 CFR 351.106(c)(1) of the Act, or an importer-specific rate is zero or de minimis, we will instruct CBP to liquidate appropriate entries without regard to antidumping duties.

Pursuant to Commerce's assessment practice,¹³ for entries that were not reported in the U.S. data submitted by Giti and Sumitomo, we will instruct to CBP to liquidate such entries at the China-wide rate (i.e., 76.46 percent).¹⁴ Additionally, where Commerce determined that an exporter under review had no shipments of subject merchandise to the United States during the POR, any suspended entries of subject merchandise that entered under that exporter's CBP case number during the POR will be liquidated at the weighted-average dumping margin assigned to the China-wide entity.

¹³ See Non-Market Economy Assessment Notice, 76 FR at 65694, for a full discussion of this practice.

¹⁴ See Order, 80 FR at 47906.

For respondents not individually examined in this administrative review that qualified for a separate rate, the assessment rate will be equal to the simple average of the dumping margin calculated using the rates assigned to Giti and Sumitomo in these final results.

For the companies found not eligible for a separate rate and part of the China-wide entity, we will instruct CBP to liquidate all entries of subject merchandise during the POR exported by these companies at the China-wide assessment rate of 76.46 percent.

Cash Deposit Requirements

The following cash deposit requirements will be effective for shipments of the subject merchandise entered, or withdrawn from warehouse, for consumption on or after the publication date for the final results of review, as provided for by section 751(a)(2)(C) of the Act: (1) for Giti, Sumitomo, and the other exporters listed above that have a separate rate, the cash deposit rate will be the rate established in the final results of review (except, if the rate is zero or de minimis, then a cash deposit rate of zero will be established for that company); (2) for previously investigated or reviewed exporters not listed in the table above that have separate rates, the cash deposit rate will continue to be the existing exporter-specific rate published for the most recently-completed segment of this proceeding; (3) for all Chinese exporters of subject merchandise that have not been found to be entitled to a separate rate, the cash deposit rate will be the rate for the China-wide entity (i.e., 76.46 percent); and (4) for all exporters of subject merchandise which are not located in China and have not received their own rate, the cash deposit rate will be the rate applicable to the Chinese exporter(s) that supplied that non-China exporter. These cash deposit requirements, when imposed, shall remain in effect until further notice.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing these final results of administrative review and publishing this notice in accordance with sections 751(a)(1) and 777(i)(1) of the Act, and 19 CFR 351.213(h)(1) and 351.221(b)(5).

Dated: March 5, 2024.
Ryan Majerus,
Deputy Assistant Secretary for Enforcement and Compliance, performing the non-exclusive functions and duties of the Assistant Secretary for Enforcement and Compliance.

Appendix I

List of Topics Discussed in the Issues and Decision Memorandum

I. Summary

II. Background

III. Changes Since the Preliminary Results

IV. Discussion of the Issues

Comment 1: Selection of Surrogate Country

Comment 2: Surrogate Financial Statements

Comment 3: Surrogate Value (SV) for Labor

Comment 4: SVs for Electricity and Water

Comment 5: SV for Truck Freight

Comment 6: Whether To Grant an Export Subsidy Offset

Comment 7: Triangle Tyre Co., Ltd's (Triangle Tyre) No-Shipment Status

Comment 8: Whether Commerce Should Inform U.S. Customs and Border Protection (CBP) Regarding the Shipments Addressed by Prinx Chengshan (Shandong) Tire Company Ltd. (PCT)

Comment 9: Whether Commerce Should Use Giti's Reported Factoring Discount

Comment 10: Ministerial Errors for Giti

Comment 11: Differential Pricing Analysis

Comment 12: Offset for SRC's Production of Turn Up Bladders (TUB)

Comment 13: Ministerial Errors for Sumitomo

V. Recommendation

Appendix II

Separate Rate Companies

1. Anhui Jichi Tire Co., Ltd.

2. Hankook Tire China Co., Ltd.

3. Jiangsu Hankook Tire Co., Ltd.

4. Koryo International Industrial Limited

5. Mayrun Tyre (Hong Kong) Limited

6. Qingdao Keter International Co., Limited

7. Qingdao Sentury Tire Co., Ltd.; Sentury (Hong Kong) Trading Co., Limited

8. Qingdao Sunfulcess Tyre Co., Ltd.

9. Shandong Haohua Tire Co., Ltd.

10. Shandong Linglong Tyre Co., Ltd.

11. Shandong New Continent Tire Co., Ltd.

12. Shandong Province Sanli Tire Manufactured Co., Ltd.

Appendix III

Companies Found To Be Part of the China-Wide Entity

1. Aeolus Tyre Corp., Ltd.

2. Double Coin Tire Ltd.

3. Hongtyre Group Co.

4. Nankang (Zhangjiagang Free Trade Zone) Rubber Industrial Co., Ltd.

5. Qingdao Crowntyre Industries Co., Ltd.

6. Shandong Habilead Rubber Co., Ltd.

7. Shangdong Hengfeng Rubber & Plastic Co., Ltd.

8. Shangdong Hengyu Science & Technology Co., Ltd.

9. Shangdong Longyue Rubber Co., Ltd. (aka ZODO Tire Co., Ltd.)

10. Shangdong Yongfeng Tyres Co., Ltd.

11. Shanghai Tire & Rubber (Group) Ltd.

12. Tianjin Wanda Tyre Group Company, Ltd.

13. Tyrechamp Group Co., Limited

14. Wendeng Sanfeng Tyre Co., Ltd.

15. Zhongce Rubber Group Co., Ltd.

[FR Doc. 2024-05169 Filed 3-11-24; 8:45 am]

BILLING CODE 3510-DS-P